DEPARTMENT OF THE INTERIOR

San Juan County Cattle Point Road Failure Environmental Impact Statement, San Juan Island National Historical Park, WA

AGENCY: National Park Service, Interior.

ACTION: Notice of intent to prepare an environmental impact statement (EIS) to address the impending failure of the San Juan County Cattle Point Road in San Juan Island National Historical Park, Washington.

SUMMARY: In Accordance with § 102(2)(C) of the National Environmental Policy Act of 1969 (Public Law 91-190), San Juan County (County) and the San Juan Island National Historical Park (SAJH) are initiating an environmental impact analysis process to address the impending failure of a portion of the County's Cattle Point Road, located within the boundaries of SAJH.

The portion of road that is of concern is a curve that extends for approximately 1,750 ft. in a generally east-west orientation along an engineered bench approximately halfway up a predominantly sand slope. The slope rises from the Strait of Juan de Fuca about 500 ft. to the south of the area where the road's stability is threatened to a height of up to 295 ft. above Mean Sea Level (MSL). The road traverses the slope at an elevation of approximately 140 to 150 ft. MSL. The lower portion of the slope, extending to within 50 ft. of the road, has been heavily eroded. According to estimates, the erosion appears to be at a rate that suggests failure of the roadbed may occur within a few years.

The EIS will identify and assess potential impacts of various alternatives to the existing Cattle Point Road to provide access to Cattle Point, a scenic area of San Juan Island that supports recreational use and a number of single-family residences. Notice is hereby given that the National Park Service and San Juan County will jointly prepare the EIS.

Comments: All interested persons, organizations, and agencies wishing to provide initial scoping comments about issues or concerns that should be addressed during the EIS process may send such information to Thomas Huse, Director, San Juan County Public Works Department, P.O. Box 729, Friday Harbor, WA 98250. Written comments should be postmarked no later than August 31, 2001.

In addition, public scoping sessions will be held after publication of this Notice, affording an additional early comment opportunity. Locations, dates, and times of these meetings will be provided in local and regional newspapers, and via the Internet at www.nps.gov/sajh or www.co.san-juan.wa.us. Inquiries regarding public meetings may be directed to the contacts listed below.

All comments received will become part of the public record and copies of comments, including any names and home addresses of respondents, may be released for public inspection. Individual respondents may request that their home addresses be withheld from the public record, which will be honored to the extent allowable by law. Requests to withhold names and/or addresses must be stated prominently at the beginning of the comments. Anonymous comments will not be considered. Submissions from organizations or businesses, and from individuals identifying themselves as representatives or officials of organizations or businesses, will be made available for public inspection in their entirety.

Because the responsibility for approving the EIS has been delegated to the National Park Service, the EIS is a “delegated” EIS. The responsible official for the National Park Service is John J. Reynolds, Regional Director, Pacific West Region, National Park Service. The responsible official for San Juan County is Laura Arnold, San Juan County Planning Director.

FOR FURTHER INFORMATION CONTACT: Thomas Huse, Director, San Juan County Public Works Department, P.O. Box 729, Friday Harbor, WA 98250, (360) 378-2114 or Cicely Muldoon, Superintendent, San Juan Island National Historical Park, P.O. Box 429, Friday Harbor, WA 98250, (360) 378-2240.

Dated: June 29, 2001.
Rory D. Westberg,
Superintendent, Columbia Cascades Support Office, Pacific West Region.

[FR Doc. 01-24628 Filed 10-1-01; 8:45 am]

BILLING CODE 4310-70-P